DEPARTMENT OF THE INTERIOR

Fish and Wildlife Service

50 CFR Part 17

RIN 1018-AG41

Endangered and Threatened Wildlife and Plants; Removing Eriastrum hooveri (Hoover's woolly-star) from the Federal List of Endangered and Threatened Species

AGENCY: Fish and Wildlife Service, Interior.

ACTION: Final rule.

SUMMARY: We, the U.S. Fish and Wildlife Service (Service), have determined that Eriastrum hooveri (Hoover's woolly-star) is no longer a threatened species pursuant to the Endangered Species Act of 1973 (Act), as amended. This determination is based on the discovery of new populations and implementation of recovery actions that contributed substantially towards meeting delisting criteria outlined in the “Recovery Plan For Upland Species of the San Joaquin Valley, California” (Recovery Plan) (USFWS 1998).

Beginning in 1990, recovery efforts for this species succeeded in locating additional populations, discovering through research that Eriastrum hooveri is more resilient and less vulnerable to disturbance activities than previously known, and achieving protection through cooperation with Federal, State, and private entities on more than 114,400 hectares (286,000 acres) of E. hooveri habitat. The management practices of, and commitments by, the U.S. Bureau of Land Management (BLM), on whose land a substantial number of the new populations have been found, will afford adequate protection to the species upon delisting. Following delisting, BLM will designate E. hooveri as a “sensitive species” pursuant to BLM Manual 6840 and California State Manual Supplement H-6840.06, to provide for continued protection and monitoring of the species on BLM lands. The post-delisting monitoring, required under section 4 of the Act, will be facilitated by BLM's implementation of their Caliente Resource Management Plan (RMP) (BLM 1996). Under the RMP and separate agreements, BLM will monitor the species and monitor residual threats at representative sites within four E. hooveri metapopulations.

DATES: This rule is effective October 7, 2003.

ADDRESSES: The administrative record for this rule is available for inspection, by appointment, during normal business hours at the Sacramento Fish and Wildlife Office of the U.S. Fish and Wildlife Service, 2800 Cottage Way, Room W-2605, Sacramento, CA 95825-1864, (telephone 916/414-6600).

FOR FURTHER INFORMATION CONTACT: Graciela Hinshaw, Sacramento Fish and Wildlife Office, at the above address or telephone 916/414-6600.

SUPPLEMENTARY INFORMATION:

Background

Eriastrum hooveri (Hoover's woolly-star) was first collected in 1935 by Gregory Lyons near Little Panoche Creek, western Fresno County, in the San Joaquin Valley of California. In 1943, Willis Jepson described the plant as Hugelia hooveri, citing a 1937 collection by Robert Hoover (the namesake for the scientific and common names). Later, Herbert Mason (1945) transferred the species along with the rest of the woolly-stars to the genus Eriastrum.

Eriastrum hooveri, an annual herb of the phlox family (Polemoniaceae), produces many wire-like stems and tiny white to pale blue flowers that are less than 5 millimeters (mm) (0.2 inch (in)) across. The flowers are nearly hidden in tufts of woolly hair. The leaves are thread-like and may have two narrow lobes near the base. Standing 1 to 20 centimeters (cm) (0.4 to 8 in) tall, the species has grayish, fuzzy stems, which are often branched (Munz and Keck 1959; USFWS 1998). The most important characteristics for distinguishing this species from other Eriastrum species are the flower size and the ratio between the length of the corolla and the length of the lobes on the petals (petals are highly colored portions of the flower and collectively are called the corolla). Characteristics of the stamen (male reproductive organ) can also help identify this species (Taylor and Davilla 1986).

The seed of Eriastrum hooveri is small and dust-like, and dispersed by the wind. The stems of dead plants often break at the soil surface and the plants are conical-shaped, characteristic of a seed that disperses via the “tumbleweed” strategy. Laboratory germination of seeds was achieved by wetting seed on filter paper, and there was rapid and complete germination of new seed (Taylor and Davilla 1986). The small flowers of E. hooveri might suggest self-pollination (Taylor and Davilla 1986).

Eriastrum hooveri was originally thought to have a range that was mostly east of the Coastal Range in San Joaquin Valley, California, and distributed in a discontinuous fashion within valley saltbush scrub and valley sink scrub from Fresno County in the north, south to the Temblor Range (Kern and San Luis Obispo Counties), with very limited distribution south of the Temblor Range, in the Cuyama Valley (San Luis Obispo and Santa Barbara Counties) (Taylor and Davilla 1986). The San Joaquin Valley lies between the Coast Ranges and the Sierra Nevada, and on the southern end is bordered by the Transverse Ranges. The climate of the San Joaquin Valley is a product of these surrounding mountain ranges. Precipitation in the San Joaquin Valley is low; it averages less than 25 cm (10 in) per year, with localized areas averaging far less. As a result, the San Joaquin Valley climate can be classified as arid or desertic. The San Joaquin Valley floor is composed of thousands of feet of sediments deposited by runoff from the surrounding mountains. Below these sediments lie important petroleum and natural gas deposits (Schoenherr 1992). The extraction of these resources accounts for some of the native habitat loss and degradation in the San Joaquin Valley and adjacent foothills. Conversion of this arid land to pastures and agricultural farmland also has replaced native habitat and introduced nonnative grasses and shrubs.

Prior to 1986, Eriastrum hooveri was known from 19 sites (sites are clusters of plants that may be part of a larger population as documented by BLM) in San Luis Obispo, Kern, Fresno, and Santa Barbara Counties in California. Most of these sites occurred on private property on the San Joaquin and Cuyama valley floors or on public land located in the foothills of the southern part of the San Joaquin Valley (the Naval Petroleum Reserve (NPR-1 and NPR-2) administered by the U.S. Department of Energy, later turned over to a private interest, Occidental Petroleum Corporation).

A status survey of Eriastrum hooveri conducted in 1986 identified 10 historical populations as extirpated, 2 others as presumed extirpated, and approximately 40 percent of the historically reported populations as remaining (Taylor and Davilla 1986). At the time of the status survey, the majority of the E. hooveri known populations were from alluvial valleys. Hilly terrain was only documented in three instances, from the Temblor Range, and the authors were unable to gain access to this area during the status survey. Taylor and Davilla (1986) reported that most remaining populations were situated on “islands” of native habitat in an otherwise “sea” of intensively managed agricultural lands, thereby leaving the remaining populations vulnerable to destruction. Our subsequent listing of E. hooveri as a threatened species in 1990 relied heavily on the data and the threats assessment presented in the Taylor and Davilla 1986 status report, as well as on additional surveys conducted between 1986 and 1990 (55 FR 29361). The listing noted that 118 populations existed, only 9 of which occurred on public lands or in undeveloped foothills. The remaining 109 populations (92 percent) were considered to be threatened by conversion of valley floor native habitat to agricultural land, oil and gas development, urbanization, reservoir construction, uncontrolled heavy sheep grazing, disposal of nutrient-laden agricultural effluent, and nonnative invasive plants (55 FR 29361). Based on these threats, we listed E. hooveri as a threatened species under the Act on July 19, 1990 (55 FR 29361).

In 1990, we initiated recovery planning for 11 listed species, including Eriastrum hooveri, and 23 candidates or species of concern that share the same ecosystem (USFWS 1998). While the development of the final Recovery Plan was being accomplished, the recovery needs of listed species were simultaneously being addressed. During the 8 years of planning, Federal and State agencies conducted extensive surveys and research and learned new information about E. hooveri biology, including its abundance and distribution and its response to disturbance. The recovery strategy in the final Recovery Plan reflects pre-plan recovery efforts.

The recovery strategy, put forth in the 1998 Recovery Plan, stated that recovery for Eriastrum hooveri could be accomplished within four metapopulations (defined as a larger population clusters by BLM), by using existing public lands and other areas already dedicated to conservation. The four metapopulations from largest to smallest are: (1) The Kettleman Hills area in Fresno and Kings Counties; (2) the Carrizo Plain-Elkhorn Plain-Temblor Range-Caliente Mountains-Cuyama Valley-Sierra Madre Mountains area in San Luis Obispo, Santa Barbara, and extreme western Kern Counties; (3) the Lokern-Elk Hills-Buena Vista Hills-Coles Levee-Maricopa-Taft area in Kern County; and (4) the Antelope Plain-Lost Hills-Semitropic area in Kern County. Recovery goals included protecting populations throughout the species' geographic range (at the time thought to be from San Benito and Fresno Counties in the north, south to the Cuyama Valley), representing a variety of topographic positions (valley floor, slopes) and community types (chenopod scrub and grasslands), at elevations ranging from 50 to 915 meters (m) (165 to 3,000 feet (ft)). Because public lands have varying multi-use mandates, and therefore may or may not afford “protection” to plants under threat, specific commitments were needed to protect the populations from incompatible uses such as heavy oilfield development, commercial development, flooding or rising groundwater levels, and dense vegetation due to proliferation of nonnative plants or suppression of fires. Low and moderate oilfield development and grazing were not considered incompatible uses. The Recovery Plan recommended a minimum acreage and plant density for E. hooveri and continuation of the monitoring of trends at representative sites within each of the four recognized metapopulations. As 33 other species were also covered in this multispecies Recovery Plan, the ecosystem-level strategy recommended a network of large-scale preserves and conservation areas that represented all natural communities in the San Joaquin Valley upland ecosystems. The Recovery Plan stated that, within this network, habitat management would be compatible with traditional and ongoing land uses such as grazing and oil exploration. Prior to the completion of the Recovery Plan, it was discovered that E. hooveri could tolerate a certain amount of natural and man-made disturbances.

The listing and subsequent recovery planning efforts resulted in increased inventory activities for Eriastrum hooveri throughout its range. Surveys in the Mojave Desert area resulted in the discovery of E. hooveri more than 140 kilometers (km) (87 miles mi) southeast of the previously known range. Surveys into remote areas by the BLM and the Los Padres National Forest, as well as routine surveys at the NPR-1 and NPR-2, resulted in the discovery of many new occurrences (an occurrence is analogous to a population and is defined here as a cluster of plants separated from the nearest cluster by at least 0.25 mile) of E. hooveri. Through a section 7 consultation with the Service, the U.S. Department of Energy conducted periodic monitoring of six representative E. hooveri sites from the early to mid 1990s (EG&G 1994, 1996). Responses to precipitation patterns on north and south slopes and ridgetops were documented (EG&G 1996), and increased attention was focused on observations of and research into the plants' response to various levels of habitat disturbance. The pertinent recovery planning and implementation efforts, along with their results, are summarized below.

Surveys

Abundance: The results of the 1986 status survey, which led to the Eriastrum hooveri listing, reflected its known distribution at the time, but did not reflect the species' larger distribution documented after 1990, probably as a consequence of the drought period and the resulting poor growing E. hooveri conditions during the two years preceding the survey (EG&G 1995a). Surveys by Federal agencies following the listing of the species in 1990 coincided with a change in precipitation, particularly in 1993, when abundant spring rainfall created favorable growing conditions for annual plants (EG&G 1994, 1995b). The favorable growing conditions along with the surveys resulted in a dramatic increase in the number of E. hooveri known populations, the size of its topographical and elevational range distribution, and a clearer understanding of its habitat associations.

Distribution: In 1992 and 1994, BLM staff surveyed private and public lands and estimated that about 1,000 Eriastrum hooveri sites occupied approximately 970 ha (2,426 ac) (BLM 1992, 1994). By 1998, the U.S. Department of Energy had comprehensively surveyed over 60 percent of NPR-1 for E. hooveri, and over 400 locations were documented; in addition, the species was also discovered on NPR-2 (Brian Cypher, Enterprise Advisory Services, Inc., pers. comm. 1998; Russ Lewis, BLM, pers. comm. 2002; Jay Hinshaw, Bureau of Indian Affairs, pers. comm. 2003).

Range: Surveys for another plant species at 820 to 910 m (2,700 to 3,000 ft) elevation in the Los Padres National Forest in 1993 led to the discovery of three populations of Eriastrum hooveri in Tennison Canyon, Goode Canyon, and Castro Canyon (Danielsen et al. 1994). These populations were 800 m (500 ft) higher in elevation than all other known populations, and the first to be located in habitat dominated by juniper. In 1998, Boyd and Porter (1999) found E. hooveri in two locations southeast of the Tehachapi Mountains within Antelope Valley, Los Angeles County. These occurrences in the Mojave Desert represent an extension of the range of the species by approximately 140 km (87 mi) to the southeast from the nearest population in the San Joaquin Valley. Additional surveys in the Antelope Valley, conducted through 2002, documented numerous occurrences of E. hooveri from near Rosamond, in Kern County, and south to Lancaster, in Los Angeles County. In 2003, 7 to 12 million plants, roughly distributed over a 100-square-mi area, were also found near Edwards Air Force Base (Ray Bransfield, USFWS, pers. comm. 2003; Patrick Buorsier, H.T. Harvey and Associates, pers. comm. 2003).

In summary, surveys have resulted in the discovery of many more valley floor sites as well as foothill sites, and have shown that Eriastrum hooveri populations discontinuously range in the north from the Ciervo/Panoche area of the San Joaquin Valley in Fresno and San Benito Counties, southward to Antelope Valley in Los Angeles County, a distance of approximately 314 km (196 mi). A total of 1,128 new sites have been found on BLM land. Along with the increase in the number of sites, the distribution and range of E. hooveri has increased. E. hooveri has been confirmed at elevations of 3,000 ft and has been found to occur in two additional habitat types: Juniper woodland and Mojave Desert. The species has a greater abundance, distribution, and range than previously thought.

Research

At the time of listing, Eriastrum hooveri was identified as preferring areas with lower annual plant densities and stable, silty to sandy soils that often exhibit cryptogamic crusting (a thin microbiotic layer at the soil surface generally composed of a complex of mosses, algae, bacteria, fungi, and lichens, or a combination of these) (55 FR 29361). Since listing, E. hooveri has also been found on stable soils that do not exhibit crusting (BLM 1994), and on sandy loam and loamy soils (EG&G 1995a). Research results in 1994 documented that vascular plant cover at sites with E. hooveri ranged from a low of 5% to a high of 93%; the amount of bare ground varied between 5% and 90%, and the amount of cryptogamic crusting varied between 0% and 80% (EGG 1995b). The wide-ranging values in plant cover and bare ground for sites with E. hooveri indicate that, although this species does better in sparsely vegetated areas, it is found in areas of dense vegetation (E. Cypher, pers. comm. 2003). A 1995 report by EG&G documented E. hooveri responses to varying rainfall and found that this species, like most annual species, appears to be sensitive to changes in precipitation compared to the shrub and grass components of the community (EG&G 1996). Soils with cryptogamic crusts are naturally open surface areas where nonnative grasses do not seem to encroach (Lewis pers. comm. 1995). The association that E. hooveri has with cryptogamic crusting may be more related to lower annual plant densities (especially lower numbers of nonnative grasses) than to an affinity with some aspect of the crusting. Areas of crusting are found throughout the species' range (R. Lewis pers. comm. 1995), and although ground disturbance will eliminate the crusting, the complex of mosses, algae, and other cryptogamic organisms that compose the crust have been observed to come back two years after ground disturbance (Holmstead and Anderson 1998) in areas where E. hooveri is found.

During above-average annual rainfall periods, Eriastrum hooveri responds quickly and well (successful seed germination, larger plants, and a higher probability of being detected during surveys), whereas during years of below-average annual rainfall, plants that germinate reach a height of only 1 in and are less likely to be detected during surveys (Ellen Cypher, Endangered Species Recovery Program, pers. comm. 2003; Jay Hinshaw, Bureau of Indian Affairs, pers. comm. 2003).

In 1995, EG&G reported that ground disturbance did not significantly affect Eriastrum hooveri and that the species was found as abundantly on disturbed sites as on undisturbed sites (EG&G 1995a). The average E. hooveri density was higher on sites where mechanical ground disturbance (typical of oilfield development) was observed, and lower on sites where other types of disturbance (by grazing, alluvial deposit, fire, unknown) were observed (EG&G 1995a). Furthermore, a study on the effects of simulated oilfield disturbance and top soil salvage showed that, although surface disturbance negatively affected E. hooveri density for at least two years, this species recolonized disturbed plots within two growing seasons from seed naturally dispersed from adjacent habitat (Hinshaw et al. 1998).

In summary, research efforts, as part of the recovery process, have shown that Eriastrum hooveri is more resilient and less vulnerable than previously thought.

Observations

The Recovery Plan was developed for arid-land species in a part of California that receives 10 in (25 cm) or less of annual precipitation. Both below-average (drought) and above-average precipitation can cause severe population variations for Eriastrum hooveri, and other species covered in the Recovery Plan, if such extreme conditions extend for more than 1 year (USFWS 1998). The status survey that preceded listing of E. hooveri followed a 2-year drought, and during the early 1990s the southern San Joaquin valley experienced above-average rainfalls (E. Cypher pers. comm. 2003b). This above-average rainfall period coincided with initial research into disturbance responses, and it was observed by Holmstead and Anderson (1998) that E. hooveri responded extremely well to the increased rainfall levels. Timing of precipitation may have also played a significant role in the response of E. hooveri to above-average rainfall, since heavy rainfall in the study area occurred during January and March, later than during normal precipitation years (Holmstead and Anderson 1998).

Eriastrum hooveri's adaptability to disturbance was evident based on observations of the reestablishment of E. hooveri following two disturbances on NPR-1 during 1990, and on NPR-1 fire breaks that had been tilled the previous year (Holmstead and Anderson 1998). Eriastrum hooveri is more resilient and less vulnerable to certain activities than previously thought.

Recovery Plan Criteria

Section 4(f) of the Act directs us to develop recovery plans for listed species. Recovery plans are written to guide recovery efforts and establish criteria for measuring recovery progress. The criteria are not intended to be absolute prerequisites for delisting and should not preclude a delisting action if such action is otherwise warranted. This section discusses the four delisting criteria identified for Eriastrum hooveri in the Recovery Plan (USFWS 1998).

(1) 75% of Occupied Habitat (as of 1998) on Public Lands in Each of the Four Metapopulations Should Be Secured and Protected From Incompatible Uses

Although difficult to quantify due to annual variability in size of populations, we believe that the intent of this criterion has been met because a substantial amount of land, approximately 114,400 ha (286,000 ac), containing substantial portions of the four metapopulations or potential habitat is in a “protected status” (as defined in the Recovery Plan) (G. Warrick, Center for Natural Lands Management, pers. comm., 2002; Mary Ann McCrary, California Department of Fish and Game (CDFG), in litt. 2002; USFWS 1998, Ann Knox, BLM, in litt. 1997). Two BLM Areas of Critical Environmental Concern (ACEC), a National Monument, four CDFG Ecological Reserves, four privately owned mitigation sites, and NPR-2 (soon to be managed by BLM) are the protected areas that contain portions of the four metapopulations; these areas, listed by metapopulation are:

(a.) The Kettleman Hills area in Fresno and Kings Counties (includes the BLM ownership with ACEC designation of 2,692 ha (6,730 ac));

(b.) The Carrizo Plain-Elkhorn Plain-Temblor Range-Caliente Mountains-Cuyama Valley-Sierra Madre Mountains area in San Luis Obispo, Santa Barbara, and extreme western Kern Counties (includes the BLM Carrizo Plain National Monument and the CDFG Elkhorn Ecological Reserve, 101,170 ha (250,000 ac));

(c.) The Lokern-Elk Hills-Buena Vista Hills-Coles Levee-Maricopa-Taft area in Kern County (includes the BLM's Lokern ACEC, 1,244 ha (3,110 ac); the CDFG's Lokern Ecological Reserve, 330 ha (825 ac), and Buttonwillow Ecological Reserve, 540 ha (1,350 ac); and private conservation areas such as the Center for Natural Lands Management's Lokern Preserve, 1,200 ha (3000 ac), the Elk Hills Conservation Area, 2,830 ha (7,075 ac), and the Coles Levee Ecosystem Preserve, 2,424 ha (6,060 ac)); and

(d.) The Antelope Plain-Lost Hills-Semitropic area in Kern County (includes the CDFG's Semitropic Ecological Reserve, 1,912 ha (4,780 ac); and private conservation areas, such as the Center for Natural Lands Management's Semitropic Ridge Preserve, 1,200 ha (3,000 ac)).

(2) 260 Hectares (640 Acres) or More of Occupied Habitat on the San Joaquin Valley Floor Is Secured and Protected (This Need Not Be in Addition to the Above, But May Be Within the Above)

The second delisting criterion has been met. Because patches of Eriastrum hooveri may vary in size annually due to rainfall, we considered all E. hooveri habitat in protected areas where the species is known to occur as occupied habitat. There are protected occurrences of E. hooveri found within the southern San Joaquin Valley floor, in BLM's Lokern ACEC, 1,244 ha (3,110 ac), and the Elk Hills Conservation Area, 1,408 ha (3,520 ac). Other protected areas on the San Joaquin Valley floor containing E. hooveri occurrences are the CDFG's Alkali Sink Ecological Reserve, 372 ha (930 ac), Lokern Ecological Reserve, 330 ha (825 ac) (USFWS 1998), and the private conservation area of Coles Levee Ecosystem Reserve, 2,424 ha (6,060 ac). The total acreage for these five protected valley floor areas that contain E. hooveri is approximately 5,778 ha (14,445 ac).

(3) Management Plans Approved and Implemented for Recovery Areas That Include Survival of Species as an Objective. Range-wide Population Monitoring Should Be Provided for in All Management Plans

The third recovery criterion, approve and implement management plans for the recovery areas that include survival of Eriastrum hooveri as an objective, has also been met. A significant number of new sites (1,128) are found on BLM land, and BLM has holdings in all 4 metapopulations of this species, including the San Joaquin Valley floor metapopulation. The wider range in combination with the commitment of BLM to designate E. hooveri as a sensitive species is sufficient to meet the recovery criterion (E. Cypher, pers. comm. 2003a and 2003c). The BLM will ensure that actions they authorize, fund, or carry out do not contribute to the need to re-list the species. As a sensitive species, E. hooveri will be addressed in the National Environmental Policy Act (NEPA) documents for BLM actions requiring NEPA review. In addition, BLM will conduct on-the-ground monitoring of E. hooveri for a minimum of 5 years from the date of the publication of this final rule to delist the species. This monitoring will be conducted in all four metapopulations (Burke, in litt. 2002), including the San Joaquin Valley floor. We believe that BLM's Resource Management Plan (RMP) meets the criteria for specific commitments to protect E. hooveri from incompatible uses and that the BLM sensitive species designation will directly enhance the survival of this species. Other existing management plans (including six HCPs and private conservation areas such as the Occidental Management Plan for the Elk Hills Conservation Area and the Center for Natural Lands Management-Management Plan) will either directly cover E. hooveri even after delisting, or will indirectly protect this species through actions directed coexisting protected species. In addition, a provision of the West Mojave Plan, being developed by several local, State, and Federal agencies in the Mojave Desert area, would direct the establishment of a reserve for sensitive plant species in areas that may support E. hooveri; if established, the reserve would include prescriptions for management and monitoring of the area (Ray Bransfield, USFWS, pers. comm. 2003).

Because BLM manages land in four metapopulations, including the San Joaquin Valley floor metapopulation, they are in the best position to take on the responsibility of post-delisting monitoring Eriastrum hooveri after delisting. The determination that the Recovery Plan's monitoring criterion had been met was made before the disjunct Mojave population was described. The Service and the BLM will jointly produce a post-delisting monitoring (PDM) plan for E. hooveri over the four metapopulations. It is assumed that any population trends and information gained through the PDM period will be representative of the species range-wide including the Mojave population (see the Post-Delisting Monitoring section of this rule for specifics on BLM's proposed monitoring).

(4) Stable or Increasing in the Four Metapopulations, Including the San Joaquin Valley Floor Metapopulation, Through One Precipitation Cycle

The fourth recovery criterion requires demonstration of stable or increasing trends in four metapopulations, including the San Joaquin Valley floor metapopulation, through one precipitation cycle. This criterion has been met since Eriastrum hooveri has persisted through both drought and above-average rainfall in 5 years of monitoring. The purpose of this criterion was to show progress in achieving population goals through the most critical time for arid upland plants (either above or below average precipitation). Stability means the statistically same population size during a precipitation cycle that includes both drought and wet phases (a cycle was anticipated to be about 20 years in the Recovery Plan) (USFWS 1998). Although the monitoring has not been completed for 20 years (the anticipated precipitation cycle), baseline data exists on BLM lands and NPR-1 that, along with precipitation data, can be used to assess this species' stability. The Recovery Plan offers some flexibility in this regard; it states that if a species' population is monitored through 1 or more years through a drought cycle this data will suffice for necessary precipitation cycle data (USFWS 1998).

At the start of monitoring (in 1997) an above-average rainfall was recorded and later (2000 to 2002) monitoring data indicated below-normal rainfall. Through both extremes Eriastrum hooveri remained robust (E. Cypher, pers. comm. 2003a and 2003c).

In summary, this recovery criteria for Eriastrum hooveri is satisfied because the species is protected on approximately 114,400 ha (286,000 ac) of habitat and remains stable through a precipitation cycle.

Previous Federal Action

On September 27, 1985, we published a revised notice of review for native plants in the Federal Register (50 FR 39526). This revised notice added Eriastrum hooveri as a category 2 candidate species. Category 2 species were those species for which information in our possession indicated that listing was possibly appropriate, but for which additional information on biological vulnerability and threats was needed to support a proposed rule. On July 27, 1989, we published a proposal to list E. hooveri as threatened (54 FR 31201). The final rule listing E. hooveri as a threatened species was published July 19, 1990 (55 FR 29361). On March 6, 2001, we published a proposed rule to remove E. hooveri from the Federal List of Endangered and Threatened Wildlife based on information indicating this species was more widespread and abundant than was documented at the time of listing, was more resilient and less vulnerable to certain activities than previously thought, and was sufficiently protected on Federal, State, and private land (66 FR 13474).

Summary of Comments and Recommendations

In the March 6, 2001, proposed delisting rule (66 FR 13474) and associated notifications, we invited all interested parties to submit comments or information that might contribute to the final delisting determination for this species. The public comment period ended May 7, 2001. We contacted and sent announcements of the proposed rule to appropriate Federal and State agencies, county governments, scientific organizations, recovery team members, and other interested parties. We established an Internet web site for electronic submittal of comments and hearing requests by any party. In addition, we solicited formal scientific peer review of the proposal in accordance with our July 1, 1994, Interagency Cooperative Policy for Peer Review in Endangered Species Act Activities (59 FR 34270). We requested four individuals, who possess expertise in Eriastrum hooveri biology, to review the proposed rule by the close of the comment period. We received one response to our request for peer review, and her comments are discussed below. We also received one response from the public supporting the delisting. No responses were received opposing the delisting. No requests for a public hearing were received.

Comment 1: Recovery of Eriastrum hooveri should have been the rationale for delisting, rather than the wider distribution of the species and tolerance of disturbance. The threatened status of E. hooveri prompted the surveys and research projects that now provide partial justification for delisting. More importantly, the listing led to actions by Federal agencies to protect the species and its habitat. Delisting E. hooveri is appropriate because of (1) the proportion of E. hooveri on public lands and in conserved areas, (2) the additional lands likely to be protected during recovery efforts for other listed species, (3) the BLM's willingness to consider treating it as a sensitive species, and (4) its tolerance of disturbance.

Our Response: We agree and have clarified that the delisting is due in large part to recovery.

Comment 2: The only recovery element that has not yet been met is to demonstrate that the populations are stable.

Our Response: We acknowledge that this recovery criterion has not been completed, however, the Recovery Plan states that for those species with existing data on population status spanning one or more years, these data can be included in measuring population recovery goals if it is deemed scientifically valid and representative. According to the flexible approach recommended in the Recovery Plan (USFWS 1998), Eriastrum hooveri data from the early 1990s was used to justify that the population goal for this species was not numerical, but rather “stability” shown through monitoring during above and below-average rainfall years. See the “Recovery Plan Criteria” section in this rule for additional information.

Comment 3: The peer reviewer disagreed with the use of number of plants and number of “sites” in the proposed delisting rule since a very small patch can contain a large number of plants, and the number of Eriastrum hooveri individuals in a specified area can vary by several orders of magnitude from one year to the next. “Sites” is an arbitrary term used to describe clusters of plants that does not indicate separate populations and does not have any relationship to the ecology or reproductive biology of the species.

Our Response: We agree and have based this delisting action on the amount of occupied and suitable habitat that has been protected for Eriastrum hooveri, along with its distribution, abundance, and resilience, rather than the number of plants and sites.

Comment 4: Protection for Eriastrum hooveri will result from efforts for other listed species. Nine of the core areas identified for recovery of multiple species support E. hooveri. Portions of each of the core areas are already conserved by Federal and State agencies and nongovernmental conservation organizations, and additional lands are likely to be protected through ongoing recovery efforts for other listed species.

Our Response: We agree that Eriastrum hooveri has benefited from conservation efforts for other listed species, and is likely to continue to do so. We have included specific information about collateral benefits in this final rule (see “Background” and “The inadequacy of existing regulatory mechanisms” under “Summary of Factors Affecting the Species”).

Comment 5: Residual mulch restrictions cited in the proposed rule are incorrect.

Our Response: We have made these corrections (see “The inadequacy of existing regulatory mechanisms” under “Summary of Factors Affecting the Species”). The BLM grazing restrictions include requirements for residual mulch (dry plant material) of 568 kilograms (kg) per ha (500 pounds (lb) per ac), and 5 cm (2 in) of green growth, or 795 kg per ha (700 lb per ac). The proposed rule to delist Eriastrum hooveri incorrectly stated that the required amount of residual dry mulch was 50 kg per ha (49 lb per ac) and required green growth was 318 kg per ha (238 lb per ac).

In addition, we considered and incorporated, as appropriate, into this final rule all biological information provided by the peer reviewer.

Summary of Factors Affecting the Species

Section 4 of the Act and our regulations (50 CFR part 424) implementing the listing provisions of the Act set forth the procedures for listing, reclassifying, and delisting species. A species may be listed if one or more of the five factors described in section 4(a)(1) of the Act threatens the continued existence of the species. A species may be delisted, according to 50 CFR 424.11(d), if the best scientific and commercial data available substantiate that the species is neither endangered nor threatened because of (1) extinction, (2) recovery, and/or (3) error in the original data for classification of the species.

After a thorough review of all available information, it is evident that substantial recovery of Eriastrum hooveri has occurred. We have determined that none of the five factors addressed in section 4(a)(1) of the Act, and discussed below, is currently affecting the species to the extent that E. hooveri remains threatened with endangerment in the foreseeable future throughout all or a significant portion of its range. The five listing factors, their application to the recovery of E. hooveri, and the identification of which threats are considered to be residual and will be the subject of monitoring after delisting are discussed below.

A. The Present or Threatened Destruction, Modification, or Curtailment of Its Habitat or Range

Oil and Gas Leasing

One of the predominant threats facing Eriastrum hooveri at the time it was listed as a threatened species was oil and gas development, especially in the Elk Hills area (55 FR 29361). Russ Lewis of the BLM has conducted several surveys for E. hooveri on public and private lands since the time of listing (BLM 1992, 1994). Of the approximately 1,000 new sites found by Lewis during 1992 and 1994, oil and gas development threats were present for only about 21 percent of the sites. Threats at many of these sites are no longer significant because several oil fields are at or near their peak of development, new drilling occurs on existing wellpads, or they have already been abandoned (R. Lewis, pers. comm. 2003). Additionally, there are other listed species in these areas; HCPs and section 7 consultations coordinated for the listed species will also protect E. hooveri. For these reasons and the reasons discussed below, we believe that the likelihood of additional habitat loss from new activity is low.

In the Elk Hills area, oil production areas are established on the upper elevation of the hills on the former NPR-1. Exploration activities generally have failed to establish oil production in the lower elevations (BLM 1994). The majority (73 percent) of the Eriastrum hooveri sites occur at lower elevations (EG&G 1995a); therefore, the majority of E. hooveri populations in NPR-1 are in areas not likely to be developed for petroleum production (B. Cypher, pers. comm. 1998).

Mobil Oil Corporation enacted measures to protect Eriastrum hooveri by placing protective exclosures around all known sites on a Lost Hills leased property (BLM 1994). Lewis also noted that above-surface pipeline corridors appear to be unintentionally restricting access of off-highway vehicles to remaining undisturbed habitat and, consequently, are protecting many other sites in the area (BLM 1994). The Eriastrum hooveri Field Inventory Report (BLM 1994) documents the presence of E. hooveri in large numbers throughout fully developed oilfields, such as Lost Hills, that have been in existence for several decades.

Because Eriastrum hooveri establishes on disturbed substrates such as well pads and pipeline rights-of-way after a period of non-use, the species likely will continue to exist both on federally and privately owned, fully developed oilfields (BLM 1994). EG&G Energy Measurements (under sponsorship by the Department of Energy and Chevron) monitored the reestablishment of E. hooveri following two disturbances that occurred on NPR-1 in 1990. At both study sites, E. hooveri occupied all disturbed plots after one growing season and the plants increased in density from the first to second growing season (Holmstead and Anderson 1998). Holmstead and Anderson also noted that E. hooveri populations were observed in fire breaks on NPR-1 that had been tilled the previous year. Further, a study on the effects of simulated oilfield disturbance and top soil salvage showed that, although surface disturbance negatively affected E. hooveri density for at least two years, E. hooveri recolonized disturbed plots within two growing seasons from seed naturally dispersed from adjacent habitat (Hinshaw et al. 1998).

Agricultural and Urban Development

Agricultural and urban development was also cited as a threat at the time of listing. Much of the San Joaquin Valley floor has been agriculturally developed, virtually to its fullest extent. Future agricultural development is uncertain and would require encroachment into hilly and agriculturally less desirable geographic areas. Limited water availability for additional agricultural and urban development is a severely limiting factor in the southern San Joaquin Valley. Although sites that occur within the San Joaquin Valley are experiencing threats from development, particularly urban or industrial development along the Interstate 5 corridor (R. Lewis, pers. comm. March 7, 1995), the majority of the plants are found along the hilly margins of the San Joaquin Valley, usually between 90 and 910 m (300 to 3,000 ft) in elevation (BLM 1994).

One of the largest populations of Eriastrum hooveri occurs along the western edge of the Interstate 5 corridor near Kettleman City. This population is within the ACEC managed by BLM, where urban or industrial development is unlikely to occur (BLM 1996a; R. Lewis, pers. comm. 2003). In addition, conservation efforts for other listed species found along the Interstate 5 corridor are likely to provide continued collateral benefits for E. hooveri.

Other potential threats identified for Eriastrum hooveri at the time it was listed as a threatened species were impacts from groundwater recharge basins, a proposed reservoir (the Arroyo Pasajero Project), and disposal of nutrient-laden agricultural effluent (55 FR 29361). The only groundwater recharge basin developed in the range of E. hooveri is the Kern Water Bank, which helps to conserve E. hooveri through HCP measures that protect habitat in perpetuity. We are not aware of impacts to E. hooveri from disposal of nutrient-laden agricultural effluent. Land application of manure or dairy waste seepage is typically not conducted on natural habitat and is not likely to impact E. hooveri (Gary Burton, Service, pers. comm. 2002). The Arroyo Pasajero Project remains a potential location for water storage for the environmental water account. However, it is anticipated that the Arroyo Pasajero Project, if it goes forward, will have an insignificant effect on E. hooveri.

Off-Highway Vehicles

Off-highway vehicles were identified as a threat for Eriastrum hooveri at the time it was listed. In 1994 the Eriastrum hooveri Field Inventory Report (BLM 1994) considered 15 percent of sites evaluated to have potential threats from off-highway vehicles. However, observations of the plants subsequent to listing suggest that the species appears to persist in the absence of renewed disturbance. The low number of documented impacts and the recolonizing ability of E. hooveri indicate that off-highway vehicles are no longer considered a threat to the long-term survival of the species (BLM 1994).

Off-highway vehicle impacts are rare occurrences and typically consist of tire tracks across occupied habitat, in many cases as a one-time occurrence by a single vehicle. On some roads located in the Caliente Mountains and Cuyama Valley, the species was found growing in tire tracks. The species has been found growing on several inactive motorcycle paths located in the Kettleman Hills, some of which were approximately 46 cm (18 in) deep. Plants also grow on the margins of dirt roads and in the strip of vegetation between tire tracks on unimproved roads in the Lokern, Elk Hills, and Lost Hills areas (E. Cypher, in litt. 2001).

The majority of the six Eriastrum hooveri populations in Los Padres National Forest are located on lightly used or abandoned roads that receive an estimated one to ten vehicle passes per year. This light road use appears to help maintain the presence of the species, although the plants do not grow in the actual tire tracks. The populations do not extend into areas, which apparently have suitable habitat, that surround the roads (Mike Foster, Forest Service, pers. comm. 1998).

Habitat disturbance will still occur in areas of potential Eriastrum hooveri habitat, and may occasionally occur on occupied habitat. However, the Service has determined that the level of disturbance will be such that pressures from present or threatened destruction, modification, or curtailment of E. hooveri habitat or range, even when taken collectively with other residual threats, are sufficiently reduced and contained that the species is no longer threatened or endangered. The Service will monitor, as part of the required post-delisting monitoring, the management commitments by BLM to limit habitat disturbance.

B. Overutilization for Commercial, Recreational, Scientific, or Educational Purposes

Overutilization is not a factor known to affect Eriastrum hooveri.

C. Disease or Predation

Eriastrum hooveri tends to occupy soil surface that does not support a large amount of vegetation. Grazing by wild herbivores is not known to occur. Although cattle may trail through areas occupied by E. hooveri en route to areas of desirable forage, they do not appear to be grazing within the sparsely vegetated E. hooveri occupied habitat (BLM 1994). Furthermore, observations subsequent to the listing have shown that the wiry and low-growing E. hooveri plants are not desirable forage for livestock, and that monitored areas in both grazed and ungrazed areas showed no significant differences in survival, size, or reproduction (BLM 1994). Survival was higher in grazed areas possibly due to the reduced vegetation cover, and E. hooveri plants were taller in ungrazed areas. Therefore, predation through grazing, including trespass grazing, is no longer considered a serious threat to E. hooveri (with regards to management of grazing refer to Factor E “Other natural or manmade factors affecting its continued existence”).

No known diseases affect Eriastrum hooveri.

D. The Inadequacy of Existing Regulatory Mechanisms

Eriastrum hooveri will continue to benefit from the many recovery and conservation activities that are being undertaken for the 33 other species in the Recovery Plan (collateral species benefits). Nine of the core areas identified for recovery of these collateral species support E. hooveri populations, and portions of these core areas are already protected (E. Cypher, in litt. 2001). Efforts to maintain linkages around the San Joaquin Valley edge (from the Ciervo/Panoche area in Fresno County, south to Maricopa in Kern County) focus on protection of both valley floor and hilly topography areas for San Joaquin kit fox, an endangered species present in E. hooveri areas, and include grassland and chenopod scrub habitat types (USFWS 1998). Protection is also afforded through habitat conservation plans for the collateral, federally listed species, including the wide-ranging San Joaquin kit fox, blunt-nosed leopard lizard, the California jewelflower, and kern mallow. All these species are protected under the Act and share the same habitat types and climatic requirements with E. hooveri (Taylor and Davilla 1986).

The principal mechanism that will continue to afford Eriastrum hooveri protection will be designation by BLM of E. hooveri as a sensitive species after the species is delisted (E. Hastey, BLM, in litt. 1995, T. Burke, BLM, in litt. 2002). BLM policy will minimize impacts to the species at all known sites that are under their jurisdiction. Coordination and annual reviews by the Service will ensure that appropriate minimization actions will occur. To aid in this review, E. hooveri population locations have been, and will continue to be, placed onto BLM's geographic information system (GIS) to help in the management of future activities that may arise within the range of the species (S. Carter, pers. comm. 2002). Part of BLM's commitment to the delisting of E. hooveri will be the establishment of key monitoring locations on public land in the four metapopulations (see “Background” under SUPPLEMENTARY INFORMATION). Additionally, BLM will evaluate the effects of any proposed management changes on E. hooveri and will periodically evaluate whether the objective of maintaining sufficient numbers and distribution to preclude listing is being met. Management strategies will be adapted to meet this objective if necessary (Tim Burke, Acting BLM State Director, in litt. 2002).

Eriastrum hooveri is not a State-listed species under the California Endangered Species Act.

E. Other Natural or Manmade Factors Affecting Its Continued Existence

Although Eriastrum hooveri is not a desirable forage plant for livestock, damage can occur by trampling as animals travel across the plants getting to areas they desire. Only five percent of the sites recorded by Lewis on BLM lands were affected by cattle and sheep grazing activities (BLM 1994). Occasionally sheep trespass in E. hooveri habitat, but sheep usually remain in one area for only a few days. Livestock trampling does not appear to constitute a serious threat to E. hooveri.

At the time of listing, competition with nonnative grasses was cited as a threat. Recent research and surveys have shown that Eriastrum hooveri prefers low densities of competing plants, whether nonnative or native. Although E. hooveri may initially colonize areas having low plant cover because of disturbance, it subsequently may be out-competed by nonnative plants in areas with sufficient moisture (E. Cypher, pers. comm. 1995). Taking into consideration the discovery of the wide distribution of this species and the abundance and extent of preferred (sparse) habitat areas, competition with nonnative grasses is no longer considered a threat to the long-term survival of E. hooveri.

The Service has determined that grazing and competition from nonnative plants is currently not a threat to the species at a level for which protection of the Act is necessary, but acknowledges that the potential for poorly managed grazing and the pervasive problem of nonnative invasive plants remains to some degree. We believe, however, that management commitments by BLM will protect Eriastrum hooveri from these situations far into the future. These residual threats, even when taken collectively with other residual threats, are sufficiently reduced and contained so that the species is no longer threatened or endangered. Because this delisting is based partly on commitments by BLM for best management practices to be utilized by all grazing lessees and other such practices that will limit encroachment by nonnative plants, the Service will monitor, as part of the required post-delisting monitoring, the commitments by BLM.

In summary, Eriastrum hooveri is more widespread and abundant than was documented at the time of listing and is more resilient and less vulnerable to certain activities, particularly impacts from grazing and oil and gas development, than previously thought. Consequently, E. hooveri is no longer likely to become in danger of extinction within the foreseeable future throughout all or a significant portion of its range. This action removes E. hooveri from the Federal List of Endangered and Threatened Species.

Effective Dates

In accordance with 5 U.S.C. 553(d), we have determined that this rule relieves an existing restriction and good cause exists to make the effective date of this rule immediate. Delay in implementation of this delisting would cost government agencies staff time and monies conducting formal section 7 consultation on actions that may affect species no longer in need of the protections under the Act. Relieving the existing restrictions associated with this listed species will enable Federal agencies to focus their attention on other species in need of protection.

Effects of the Rule

This action removes Eriastrum hooveri from the List of Endangered and Threatened Plants and removes the protections afforded E. hooveri under the Act. However, protection provided to E. hooveri through incidental take permits for co-occurring listed animal species associated with HCPs issued under section 10(a)(1)(B) of the Act will continue by virtue of E. hooveri remaining as a covered species in HCPs developed for multiple species that remain listed under the Act. Currently, E. hooveri is a covered species in at least six HCPs in the San Joaquin Valley for which incidental take permits have been issued for various listed animal species. After delisting, E. hooveri will no longer be a covered listed species under these existing multi-species HCPs; instead E. hooveri becomes a covered non-listed species under the same HCP as of the effective date of this final rule. In order to receive No Surprises assurances, the permit holder must continue to abide by the original conditions of the permit (50 CFR 17.22(b)(5) and 17.32(b)(95)). If the permittee's actions violate the terms of the permit, then the permittee is outside the safety net of No Surprises should the species be relisted under the Act in the future.

After the effective date of this rule, Federal agencies will no longer be required to consult with us under section 7 of the Act to ensure that any action they authorize, fund, or carry out is not likely to jeopardize the continued existence of Eriastrum hooveri. However, BLM intends to designate E. hooveri as a sensitive species and will continue to minimize impacts to the species at all known sites that are under its jurisdiction. The use of E. hooveri must comply with State regulations. There is no designated critical habitat for this species. There are no specific preservation or management programs for the species that are terminated.

Post-Delisting Monitoring

Section 4(g)(1) of the Act requires that the Secretary of the Interior, through the Service, implement a monitoring program for not less than five years for all species that have been recovered and delisted. Post-delisting monitoring (PDM) refers to activities undertaken to verify that a species delisted due to recovery remains secure from risk of extinction after it has been removed from the protections of the Act. The primary goal of PDM is to confirm that the species does not require relisting as threatened or endangered during the period following removal of the Act's protection. Therefore, we anticipate that data collection for PDM will be but a subset of that which was collected in support of the delisting rule. In general, PDM plans will monitor demographic data over a set period of time, and may monitor residual threats (see “Definitions”) or the effect on the species of the removal of the protections afforded by the Act, or be designed to detect new threats. If at any time during the PDM data indicate that protective status under the Act should be reinstated, we can initiate listing procedures, including, if appropriate, emergency listing. A PDM plan is being drafted in a cooperative effort between the Service and BLM to guide the collection and evaluation of pertinent information over the monitoring period.

Post-Delisting Monitoring Plan Overview

The management practices of, and commitments by, the BLM, on whose land a substantial number of the new populations have been found, will afford adequate protection to the species upon delisting, when Eriastrum hooveri will be designated by BLM as a sensitive species pursuant to BLM Manual 6840 and California State Manual Supplement H-6840.06. The post-delisting monitoring, required under section 4 of the Act, will be facilitated by BLM's implementation of their Caliente Resource Management Plan (RMP) (BLM 1996). Under the RMP and separate agreements, BLM will conduct species-specific monitoring as well as monitoring of residual threats at representative sites within the 4 metapopulations. Threats considered “residual” for E. hooveri are habitat disturbance, removal of protections afforded by the Act, and poorly managed grazing and encroachment by nonnative plants.

The Service will monitor the implementation of these commitments for the first 5 years following delisting. During this time the RMP and other BLM commitments will be reviewed annually by the Service. The Service will monitor BLM's commitment to declare Eriastrum hooveri a sensitive species, and BLM's implementation of the RMP with regard to residual threats. The Service will monitor the management commitments by BLM to limit habitat disturbance; the collective commitments by BLM, particularly the sensitive species designation, which provide protections similar to those afforded by the Act; and the use of best management practices by all grazing lessees and BLM's implementation of other such practices to limit encroachment by nonnative plants. Additionally, we will review the data on residual threats and E. hooveri collected by BLM under their monitoring plan. At the close of 5 years we will evaluate whether BLM's RMP affords the conditions necessary to maintain the species in sufficient numbers and distribution such that the status of E. hooveri is secure.

The BLM monitoring plan is being designed to detect changes in the status of Eriastrum hooveri primarily by monitoring residual threats and habitat conditions. The BLM will monitor residual threats coupled with species-specific monitoring, in a representative fashion within all four metapopulations, including the San Joaquin Valley floor metapopulation. The BLM's monitoring plan will be agreed upon by the Service.

Thresholds that would trigger an extension of monitoring or a status review will be presented in the Service's draft post-delisting monitoring plan. At the end of the 5-year period, we may end post-delisting monitoring if information indicates that the overall status of Eriastrum hooveri is secure (i.e., BLM's RMP affords the conditions necessary to maintain the species in sufficient numbers and distribution such that the status of E. hooveri is secure).

Paperwork Reduction Act

Office of Management and Budget (OMB) regulations at 5 CFR 1320, which implement provisions of the Paperwork Reduction Act, require that Federal agencies obtain approval from OMB before collecting information from the public. An agency may not conduct or sponsor, and a person is not required to respond to, a collection of information unless it displays a currently valid OMB control number. Implementation of this rule does not include any collections of information that require approval by OMB under the Paperwork Reduction Act.

National Environmental Policy Act

We have determined that we do not need to prepare an Environmental Assessment, as defined under the authority of the National Environmental Policy Act of 1969, in connection with regulations adopted pursuant to section 4(a) of the Act. We published a notice outlining our reasons for this determination in the Federal Register on October 25, 1983 (48 FR 49244).

References Cited

A complete list of all references cited herein is available upon request from the Sacramento Fish and Wildlife Office, U.S. Fish and Wildlife Service (see ADDRESSES section).

Author

The primary author of this final rule is Graciela Hinshaw, Sacramento Fish and Wildlife Office, U.S. Fish and Wildlife Service (see ADDRESSES section).

List of Subjects in 50 CFR Part 17

Endangered and threatened species, Exports, Imports, Reporting and record-keeping requirements, Transportation.

Regulation Promulgation

For the reasons set out in the preamble, we hereby amend part 17, subchapter B of chapter I, Title 50 of the Code of Federal Regulations, as set forth below:

PART 17—[AMENDED]

1. The authority citation for part 17 continues to read as follows:

Authority: 16 U.S.C. 1361-1407; 16 U.S.C. 1531-1544; 16 U.S.C. 4201-4245; Pub. L. 99-625, 100 Stat. 3500, unless otherwise noted.

§ 17.12 [Amended]

2. Section 17.12(h) is amended by removing the entry for “ Eriastrum hooveri, Hoover's woolly star” under “Flowering Plants” from the List of Endangered and Threatened Plants.

Dated: September 29, 2003.
Steve Williams,
Director, Fish and Wildlife Service.

[FR Doc. 03-25364 Filed 10-6-03; 8:45 am]

BILLING CODE 4310-55-P